DEPARTMENT OF HOMELAND SECURITY

[Docket No. DHS-2009-0158]

Homeland Security Science and Technology Advisory Committee

AGENCY: Science and Technology Directorate, DHS.

ACTION: Committee management; Notice of closed Federal Advisory Committee meeting.

SUMMARY: The Homeland Security Science and Technology Advisory Committee will meet January 26-28, 2010, at the Department of Homeland Security, 1120 Vermont Ave., NW., Washington, DC. This meeting will be closed to the public.

DATES: The Homeland Security Science and Technology Advisory Committee will meet January 26, 2010, from 9 a.m. to 5 p.m., January 27, 2010, from 9 a.m. to 5 p.m. and on January 28, 2010, from 8 a.m. to 11 a.m.

ADDRESSES: The meeting will be held at the Department of Homeland Security, 1120 Vermont Ave., NW., Washington, DC. Requests to have written material distributed to each member of the committee prior to the meeting should reach the contact person at the address below by Friday, January 8, 2010. Send written material to Ms. Tiwanda Burse, Science and Technology Directorate, Department of Homeland Security, 245 Murray Lane, Bldg. 410, Washington, DC 20528. Comments must be identified by DHS-2009-0158 and may be submitted by one of the following methods:

• Federal eRulemaking Portal: http://www.regulations.gov. Follow the instructions for submitting comments.

• E-mail: HSSTAC@dhs.gov. Include the docket number in the subject line of the message.

• Fax: 202-254-6173.

• Mail: Ms. Tiwanda Burse, Science and Technology Directorate, Department of Homeland Security, 245 Murray Lane, Bldg. 410, Washington, DC 20528.

Instructions: All submissions received must include the words “Department of Homeland Security” and the docket number for this action. Comments received will be posted without alteration at http://www.regulations.gov, including any personal information provided.

Docket: For access to the docket to read background documents or comments received by the (committee name), go to http://www.regulations.gov.

FOR FURTHER INFORMATION CONTACT: Ms. Tiwanda Burse, Science and Technology Directorate, Department of Homeland Security, 245 Murray Lane, Bldg. 410, Washington, DC 20528, 202-254-6877.

SUPPLEMENTARY INFORMATION: Notice of this meeting is given under the Federal Advisory Committee Act, 5 U.S.C. App. (Pub. L. 92-463).

At this meeting, the Committee will receive sensitive and classified (Top Secret-level) briefings and presentations regarding relationships between Science & Technology and selected Defense related topics concerning matters sensitive to homeland security.

Basis for Closure: In accordance with Section 10(d) of the Federal Advisory Committee Act, it has been determined that the Homeland Security Science and Technology Advisory Committee meeting concerns sensitive Homeland Security information and classified matters within the meaning of 5 U.S.C. 552b(c)(1) and (c)(9)(B) which, if prematurely disclosed, would significantly jeopardize national security and frustrate implementation of proposed agency actions and that, accordingly, the portion of the meeting that concerns these issues will be closed to the public.

Dated: January 7, 2010.
Tara O'Toole,
Under Secretary for Science and Technology.

[FR Doc. 2010-737 Filed 1-14-10; 8:45 am]

BILLING CODE 9910-9F-P